ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled a public hearing and its regular business meetings to take place in Washington, D.C. on Monday, Tuesday, and Wednesday, September 11-13, 2000, at the times and location noted below.

DATES: The schedule of events is as follows:

Monday, September 11, 2000

10:30 a.m.-Noon and 1:30-5:00 p.m. Committee of the Whole—Americans with Disabilities Act/Architectural Barriers Act Final Rule (Closed Meeting)

Tuesday, September 12, 2000

9:00 a.m.-Noon and 1:30-4:00 p.m. Committee of the Whole—Americans with Disabilities Act/Architectural Barriers Act Final Rule (Closed Meeting)

4:00 p.m.-5:00 p.m. Planning and Budget Committee

Wednesday, September 13, 2000

9:00 a.m.-10:30 a.m. Technical Programs Committee

10:30 a.m.-Noon Executive Committee

1:30 p.m.-3:30 p.m. Board Meeting

ADDRESSES: The meetings will be held at the Washington Renaissance Hotel, 999 9th Street, N.W., Washington, D.C.

FOR FURTHER INFORMATION CONTACT: For further information regarding the meetings, please contact Lawrence W. Roffee, Executive Director, (202) 272-5434, ext. 114 (voice) and (202) 272-5449 (TTY).

SUPPLEMENTARY INFORMATION: At the Board meeting, the Access Board will consider the following agenda items.

Open Meeting

• Executive Director's Report

• Approval of the Minutes of the July 26, 2000 Board Meeting

• Executive Committee Report

• Planning and Budget Committee Report—Status Report on Fiscal Year 2000 Budget and Report on 2002 Budget

• Technical Programs Committee Report—Report on Fiscal Years 1998, 1999, and 2000 Projects and Fiscal Year 2001 Research and Technical Projects

Closed Meeting

• Committee of the Whole Report on the Americans with Disabilities Act/ Architectural Barriers Act Final Rule

All meetings are accessible to persons with disabilities. Sign language interpreters and an assistive listening system are available at all meetings.

Persons attending Board meetings are requested to refrain from using perfume, cologne, and other fragrances for the comfort of other participants.

Lawrence W. Roffee,
Executive Director.

[FR Doc. 00-22069 Filed 8-28-00; 8:45 am]

BILLING CODE 8150-01-P